COMMISSION ON CIVIL RIGHTS

Agenda and Notice of Public Meeting of the Illinois Advisory Committee

Notice is hereby given, pursuant to the provisions of the rules and regulations of the U.S. Commission on Civil Rights and the Federal Advisory Committee Act, that a planning meeting with briefing of the Illinois Advisory Committee will convene at 1 p.m. and adjourn at 5 p.m. on Thursday, March 22, 2007, at 55 W. Monroe Street, Fifth Floor Conference Room, Chicago, Illinois 60603. The purpose of the planning meeting with briefing is to conduct an orientation and ethics training for new members, plan future activities, and have a briefing on religious discrimination in prisons.

Persons desiring additional information, or planning to present a statement to the Committee, should contact Constance M. Davis, Regional Director of the Midwestern Regional Office, 312-353-8311 (TDD 312-353-8362). Hearing impaired persons who will attend the meeting and require the services of a sign language interpreter should contact the Regional Office at least ten (10) working days before the scheduled date of the meeting.

The meeting will be conducted pursuant to the provisions of the rules and regulations of the Commission and the Federal Advisory Committee Act.

It was not possible to publish this notice 15 days in advance of the meeting date because of internal processing delays.

Dated at Washington, DC, March 13, 2007.
Ivy L. Davis,
Acting Chief, Regional Programs Coordination Unit.

[FR Doc. E7-4838 Filed 3-15-07; 8:45 am]

BILLING CODE 6335-01-P